DEPARTMENT OF COMMERCE

International Trade Administration

[C-427-817, C-533-818, C-560-806, C-475-827, C-580-837]

Notice of Amended Final Determinations: Certain Cut-to-Length Carbon-Quality Steel Plate From India and the Republic of Korea; and Notice of Countervailing Duty Orders: Certain Cut-To-Length Carbon-Quality Steel Plate From France, India, Indonesia, Italy, and the Republic of Korea

AGENCY: Import Administration, International Trade Administration, Department of Commerce.

EFFECTIVE DATE: February 10, 2000.

FOR FURTHER INFORMATION CONTACT: Cynthia Thirumalai at (202) 482-4087 (France), Robert Copyak at (202) 482-2209 (India), Eva Temkin at (202) 482-1167 (Indonesia), Kristen Johnson at (202) 482-4406 (Italy), and Stephanie Moore at (202) 482-3692 (Korea), Office of AD/CVD Enforcement, Import Administration, International Trade Administration, U.S. Department of Commerce, 14th Street and Constitution Avenue, NW, Washington, DC 20230.

The Applicable Statute and Regulations

Unless otherwise indicated, all citations to the statute are references to the provisions of the Tariff Act of 1930, as amended by the Uruguay Round Agreements Act effective January 1, 1995 (“the Act”). In addition, unless otherwise indicated, all citations to the Department's regulations are to the current regulations codified at 19 CFR Part 351 (1999).

Scope of Orders

The products covered by these antidumping duty orders are certain hot-rolled carbon-quality steel: (1) Universal mill plates (i.e., flat-rolled products rolled on four faces or in a closed box pass, of a width exceeding 150 mm but not exceeding 1250 mm, and of a nominal or actual thickness of not less than 4 mm, which are cut-to-length (not in coils) and without patterns in relief), of iron or non-alloy-quality steel; and (2) flat-rolled products, hot-rolled, of a nominal or actual thickness of 4.75 mm or more and of a width which exceeds 150 mm and measures at least twice the thickness, and which are cut-to-length (not in coils). Steel products to be included in the scope of these orders are of rectangular, square, circular or other shape and of rectangular or non-rectangular cross-section where such non-rectangular cross-section is achieved subsequent to the rolling process (i.e., products which have been “worked after rolling”)—for example, products which have been beveled or rounded at the edges. Steel products that meet the noted physical characteristics that are painted, varnished or coated with plastic or other non-metallic substances are included within this scope. Also, specifically included in the scope of these orders are high strength, low alloy (“HSLA”) steels. HSLA steels are recognized as steels with micro-alloying levels of elements such as chromium, copper, niobium, titanium, vanadium, and molybdenum. Steel products to be included in this scope, regardless of Harmonized Tariff Schedule of the United States (“HTSUS”) definitions, are products in which: (1) Iron predominates, by weight, over each of the other contained elements; (2) the carbon content is two percent or less, by weight; and (3) none of the elements listed below is equal to or exceeds the quantity, by weight, respectively indicated: 1.80 percent of manganese, or 1.50 percent of silicon, or 1.00 percent of copper, or 0.50 percent of aluminum, or 1.25 percent of chromium, or 0.30 percent of cobalt, or 0.40 percent of lead, or 1.25 percent of nickel, or 0.30 percent of tungsten, or 0.10 percent of molybdenum, or 0.10 percent of niobium, or 0.41 percent of titanium, or 0.15 percent of vanadium, or 0.15 percent zirconium. All products that meet the written physical description, and in which the chemistry quantities do not equal or exceed any one of the levels listed above, are within the scope of these orders unless otherwise specifically excluded. The following products are specifically excluded from these orders: (1) Products clad, plated, or coated with metal, whether or not painted, varnished or coated with plastic or other non-metallic substances; (2) SAE grades (formerly AISI grades) of series 2300 and above; (3) products made to ASTM A710 and A736 or their proprietary equivalents; (4) abrasion-resistant steels (i.e., USS AR 400, USS AR 500); (5) products made to ASTM A202, A225, A514 grade S, A517 grade S, or their proprietary equivalents; (6) ball bearing steels; (7) tool steels; and (8) silicon manganese steel or silicon electric steel.

The merchandise subject to these orders is classified in the HTSUS under subheadings: 7208.40.3030, 7208.40.3060, 7208.51.0030, 7208.51.0045, 7208.51.0060, 7208.52.0000, 7208.53.0000, 7208.90.0000, 7210.70.3000, 7210.90.9000, 7211.13.0000, 7211.14.0030, 7211.14.0045, 7211.90.0000, 7212.40.1000, 7212.40.5000, 7212.50.0000, 7225.40.3050, 7225.40.7000, 7225.50.6000, 7225.99.0090, 7226.91.5000, 7226.91.7000, 7226.91.8000, 7226.99.0000.

Although the HTSUS subheadings are provided for convenience and Customs purposes, the written description of the merchandise covered by these orders is dispositive.

Amended Final Determinations

India

On December 29, 1999, the final determination in the countervailing duty investigation of certain cut-to-length carbon-quality steel plate from India was published in the Federal Register (64 FR 73131). On January 10, 2000, petitioners in the investigation alleged that the Department made ministerial errors in calculating the estimated net countervailable subsidy rate. We agree with petitioners and have corrected our calculations. As a result, the estimated net countervailable subsidy rate attributable to the Steel Authority of India (“SAIL”) increased from 11.25 percent ad valorem to 12.82 percent ad valorem; this rate also serves as the “all others” rate. These corrections are explained in the memorandum to Holly A. Kuga, Acting Deputy Assistant Secretary, Group II, Import Administration (“Allegations of Ministerial Errors in the Final Affirmative Countervailing Duty Determination: Certain Cut-to-Length Carbon-Quality Steel Plate from India”). The memorandum is on file in public version form in the Central Records Unit (“CRU”), (room B-099 of the Main Commerce Building).

Republic of Korea

On December 29, 1999, the final determination in the countervailing duty investigation of certain cut-to-length carbon-quality steel plate from South Korea was published in the Federal Register (64 FR 73176). On January 10, 2000, petitioners and respondents in the investigation alleged that the Department made ministerial errors in calculating the estimated net countervailable subsidy rates applicable to certain respondents. We agree that certain ministerial errors were made and we have corrected our calculations. As a result, the estimated net countervailable subsidy rate attributable to Pohang Iron and Steel Company (“POSCO”) decreased from 0.95 percent ad valorem to 0.82 percent ad valorem, and the estimated net countervailable subsidy rate attributable to Dongkuk Steel Mill, Ltd, (“DSM”) increased from 2.21 percent ad valorem to 3.26 percent ad valorem; this rate also serves as the “all others” rate. These corrections are explained in the memorandum to Holly A. Kuga, Acting Deputy Assistant Secretary, Group II, Import Administration (“Ministerial Errors in the Final Affirmative Countervailing Duty Determination: Certain Cut-to-Length Carbon-Quality Steel Plate from Korea”). The memorandum is on file in public version form in the CRU.

Countervailing Duty Orders

In accordance with section 705(d) of the Act, on December 29, 1999, the Department published its final determinations in the countervailing duty investigations of certain cut-to-length carbon-quality steel plate from France (64 FR 73277), India (64 FR 73131), Indonesia (64 FR 73155), Italy (64 FR 73244), and Korea (64 FR 73176). On February 2, 2000, the International Trade Commission (“ITC”) notified the Department of its final determination, pursuant to section 705(b)(1)(A)(i) of the Act, that an industry in the United States suffered material injury as a result of subsidized imports of certain cut-to-length carbon-quality steel plate from France, India, Indonesia, Italy, and Korea.

Therefore, countervailing duties will be assessed on all unliquidated entries of certain cut-to-length carbon-quality steel plate from France, India, Indonesia, Italy, and Korea entered, or withdrawn from warehouse, for consumption on or after July 26, 1999, the date on which the Department published its preliminary affirmative countervailing duty determinations in the Federal Register, and before November 23, 1999, the date the Department instructed the U.S. Customs Service to discontinue the suspensions of liquidation in accordance with section 703(d) of the Act, and on all entries and withdrawals of subject merchandise made on or after the date of publication of these countervailing duty orders in the Federal Register. Section 703(d) states that the suspension of liquidation pursuant to a preliminary determination may not remain in effect for more than four months. Entries of certain cut-to-length carbon-quality steel plate made on or after November 23, 1999, and prior to the date of publication of these orders in the Federal Register are not liable for the assessment of countervailing duties due to the Department's discontinuation, effective November 23, 1999, of the suspensions of liquidation.

In accordance with section 706 of the Act, the Department will direct U.S. Customs officers to reinstitute the suspension of liquidation effective the date of publication of this notice in the Federal Register and to assess, upon further advice by the Department pursuant to section 706(a)(1) of the Act, countervailing duties for each entry of the subject merchandise in an amount based on the net countervailable subsidy rate for the subject merchandise.

On or after the date of publication of this notice in the Federal Register, U.S. Customs officers must require, at the same time as importers would normally deposit estimated duties on this merchandise, a cash deposit equal to the countervailable subsidy rates noted below. The All Others rates apply to all producers and exporters of certain cut-to-length carbon-quality steel plate from France, India, Indonesia, Italy, and Korea not specifically listed below. The cash deposit rates are as follows:

| Net Subsidy Rate
Producer/Exporter: France
Usinor Group | 5.56 percent ad valorem.
GTS Industries S.A. | 6.86 percent ad valorem.
All Others | 6.80 percent ad valorem.
Producer/Exporter: India
Steel Authority of India (SAIL) | 12.82 percent ad valorem.
All Others | 12.82 percent ad valorem.
Producer/Exporter: Indonesia
P.T. Krakatau Steel | 47.71 percent ad valorem.
All Others | 15.90 percent ad valorem.
Producer/Exporter: Italy
ILVA S.p.A. and ILVA Lamiere e. Tubi S.p.A | 26.12 percent ad valorem.
All Others | 26.12 percent ad valorem.
Producer/Exporter: Korea
Dongkuk Steel Mill, Ltd. | 3.26 percent ad valorem.
All Others | 3.26 percent ad valorem.

The Indonesian steel producers P.T. Gunawan Steel and P.T. Jaya Pari are excluded from the Indonesian order because they received a de minimis net subsidy of 0.00 percent ad valorem. The Italian steel producer Palini and Bertoli S.p.A is excluded from the Italian order because it received a de minimis net subsidy of 0.12 percent ad valorem. The Korean steel producer POSCO is excluded from the Korean order because it received a de minimis net subsidy rate of 0.82 percent ad valorem.

This notice constitutes the countervailing duty orders with respect to certain cut-to-length carbon-quality steel plate from France, India, Indonesia, Italy, and Korea, pursuant to section 706(a) of the Act. Interested parties may contact the CRU, for copies of an updated list of countervailing duty orders currently in effect.

These countervailing duty orders and amended final determinations are published in accordance with section 706(a) and 705 of the Act and 19 CFR 351.211 and 351.224.

Dated: February 3, 2000.
Holly A. Kuga,
Acting Assistant Secretary for Import Administration.

[FR Doc. 00-3120 Filed 2-9-00; 8:45 am]

BILLING CODE 3510-DS-P